DEPARTMENT OF HOMELAND SECURITY

Coast Guard

[Docket No. USCG-2017-0203]

National Maritime Security Advisory Committee

AGENCY: Coast Guard, Department of Homeland Security.

ACTION: Notice of Federal Advisory Committee Meeting.

SUMMARY: The National Maritime Security Advisory Committee will meet in Norfolk, Virginia, to review and discuss various issues relating to national maritime security. All meetings will be open to the public.

DATES: The Committee will meet on Tuesday, April 25, 2017, from 12 Noon to 4:30 p.m. and on Wednesday, April 26, 2017, from 8 a.m. to 12 Noon. This meeting may close early if all business is finished.

ADDRESSES: The meeting will be held in the Port of Virginia Conference Room on the 6th floor of the World Trade Center, 600 World Trade Center; Norfolk, Virginia 23510. The Port of Virginia's Web site is: http://www.portofvirginia.com/.

This meeting will be broadcast via a web enabled interactive online format and teleconference line. To participate via teleconference, dial 1-855-475-2447; the pass code to join is 764 990 20#. Additionally, if you would like to participate in this meeting via the online web format, please log onto https://share.dhs.gov/nmsac/ and follow the online instructions to register for this meeting. If you encounter technical difficulties, contact Mr. Ryan Owens at (202) 302-6565.

For information on facilities or services for individuals with disabilities, or to request special assistance at the meetings, contact the individual listed in FOR FURTHER INFORMATION CONTACT below as soon as possible.

Instructions: You are free to submit comments at any time, including orally at the meetings, but if you want committee members to review your comment before the meetings, please submit your comments no later than April 20, 2017. We are particularly interested in comments on the issues in the “Agenda” section below. You must include “Department of Homeland Security” and the docket number [USCG-2017-0203] in your submission. Written comments should be submitted using the Federal eRulemaking Portal: http://www.regulations.gov. If you encounter technical difficulties, contact Mr. Ryan F. Owens. Comments received will be posted without alteration at http://www.regulations.gov including any personal information provided. You may review a Privacy Act notice regarding the Federal Docket Management System in the March 24, 2005 issue of the Federal Register (70 FR 15086).

Docket Search: For access to the docket to read documents or comments related to this notice, go to http://www.regulations.gov, and use “USCG-2017-0203” in the “Search” box, press Enter, and then click on the item you wish to view.

FOR FURTHER INFORMATION CONTACT: Mr. Ryan Owens, Alternate Designated Federal Officer of the National Maritime Security Advisory Committee, 2703 Martin Luther King Jr. Avenue SE., Washington, DC 20593, Stop 7581, Washington, DC 20593-7581; telephone 202-372-1108 or email ryan.f.owens@uscg.mil.

SUPPLEMENTARY INFORMATION: Notice of this meeting is in compliance with the Federal Advisory Committee Act, (Title 5, United States Code, Appendix). The National Maritime Security Advisory Committee operates under the authority of 46 U.S.C. 70112. The National Maritime Security Advisory Committee provides advice, consults with, and makes recommendations to the Secretary of Homeland Security, via the Commandant of the Coast Guard, on matters relating to national maritime security.

A copy of all meeting documentation will be available at https://homeport.uscg.mil/NMSAC by April 25, 2017. Alternatively, you may contact Ryan Owens as noted in the FOR FURTHER INFORMATION CONTACT section above.

Agenda of Meeting

Day 1

The Committee will meet to review, discuss and formulate recommendations on the following issues:

(1) Security and Partnerships in the Port Of Virginia. The Committee will receive a presentation from the Port of Virginia providing review of how the Port of Virginia is partnering to implement security strategies.

(2) Container Security, Non-Intrusive Inspection/Radiation Portal Monitors. The Committee will discuss, receive a briefing and provide recommendations on Customs and Border Protections efforts to implement non-intrusive inspection in US ports.

(3) Unmanned Aerial Vehicles. The increase in the use of unmanned aerial vehicles within ports has introduced the need to provide guidance on how to identify and report potential suspicious activity associated with these vehicles. The Committee will discuss, receive a briefing and provide guidance.

(4) Seafarer Access. The Committee will receive a follow-on brief from a discussion at the last October 2016 public meeting.

(5) Regulatory Update. The Committee will receive an update brief on regulatory efforts to date.

(6) Public Comment period.

Day 2

The Committee will meet to review, discuss and formulate recommendations on the following issues:

(1) Extremely Hazardous Cargo Strategy. In July, the Coast Guard tasked the Committee to work with the Chemical Transportation Advisory Committee to assist in the development of an Extremely Hazardous Cargo Strategy Implementation Plan. The Committee will discuss and receive an update from the Extremely Hazardous Cargo Working Group on their efforts.

(2) Cyber Security. The Committee will discuss and receive a brief on the current efforts to implement cyber security strategies.

(3) Cascadia Horizon. The Committee will discuss and receive a brief on the results of the Coast Guard's participation in the Cascadia Rising National Level exercise.

(4) Public comment period.

Public comments or questions will be taken throughout the meeting as the Committee discusses the issues and prior to deliberations and voting. There will also be a public comment period at the end of the meeting. Speakers are requested to limit their comments to 5 minutes. Please note that the public comment period may end before the period allotted, following the last call for comments. Contact the individual listed in the FOR FURTHER INFORMATION CONTACT section above to register as a speaker.

Dated: March 29, 2017.
V.B. Gifford, Jr.
Captain, U.S. Coast Guard, Director of Inspections and Compliance.

[FR Doc. 2017-06656 Filed 4-3-17; 8:45 am]

BILLING CODE 9110-04-P